NUCLEAR REGULATORY COMMISSION

[Docket No. 040-02384-CivP, ASLBP No. 02-797-01-CivP, EA 99-290]

Atomic Safety and Licensing Board; Before Administrative Judges: Charles Bechhoefer, Chairman, G. Paul Bollwerk, III, Dr. Richard F. Cole; In the Matter of Earthline Technologies (Previously RMI Environmental Services), Ashtabula, OH, License No. SMB-00602; Order Imposing Civil Monetary Penalty

March 26, 2002.

Notice of Hearing

This proceeding involves a proposed civil penalty of $17,600 sought to be imposed by the NRC Staff on Earthline Technologies, previously RMI Environmental Services, Ashtabula, OH (Earthline or Licensee) for an alleged violation of NRC's employee protection regulations, based upon the asserted discrimination by an Earthline management official against an employee for engaging in protected activities (i.e., contacting the NRC concerning safety matters. In response to an Order Imposing Civil Monetary Penalty, dated January 15, 2002 and published at 67 FR 3917 (Jan. 28, 2002), Earthline on February 6, 2002 filed a timely request for an enforcement hearing. On March 6, 2002, an Atomic Safety and Licensing Board, consisting of G. Paul Bollwerk, III, Dr. Richard F. Cole, and Charles Bechhoefer, who serves as Chairman, was established to preside over this proceeding. 67 FR 11,147 (March 12, 2002).

Notice is hereby given that, by Memorandum and Order dated March 26, 2002, the Atomic Safety and Licensing Board has granted the request for a hearing submitted by Earthline. This proceeding will be conducted under the Commission's hearing procedures set forth in 10 CFR part 2, subparts B and G. Parties to this proceeding are Earthline and the NRC Staff. The issues to be considered, as set forth in the Order Imposing Civil Monetary Penalty, are (a) whether the Licensee was in violation of the Commission's requirements as set forth in the Notice of Violation and Proposed Imposition of Civil Penalty, served on the Licensee by letter dated September 24, 2001; and (b) whether, on the basis of such violation, the Order Imposing Civil Monetary Penalty should be sustained.

Documents related to this proceeding issued prior to December 1, 1999, are available in microfiche form (with print form available on one-day recall) for public inspection at the Commission's Public Document Room (PDR), Room O-1 F21, NRC One White Flint North, 11555 Rockville Pike, Rockville, Maryland 20852-2738. Documents issued subsequent to November 1, 1999, are available electronically through the Agencywide Documents Access and Management System (ADAMS), with access to the public through NRC's Internet Web site (Public Electronic Reading Room Link, <http://www.nrc.gov/NRC/ADAMS/index.html>). The PDR and many public libraries have terminals for public access to the Internet.

As set forth at 10 CFR 2.205(g) and 2.203, the Commission urges the parties in proceedings such as this one to attempt to settle or compromise the matters at issue. Except to the extent an early settlement or other circumstance renders them unnecessary, the Licensing Board may, during the course of this proceeding, conduct one or more prehearing conferences and evidentiary hearing sessions. The time and place of these sessions will be announced in Licensing Board Orders. Except as limited by the parameters of telephone conferences (which are in any event to be transcribed), members of the public are invited to attend such sessions.

For the Atomic Safety and Licensing Board.
Dated in Rockville, Maryland, on March 26, 2002.
Charles Bechhoefer,
Chairman, Administrative Judge.

[FR Doc. 02-7796 Filed 3-29-02; 8:45 am]

BILLING CODE 7590-01-P